DEPARTMENT OF THE INTERIOR

Bureau of Land Management

[LLNVB01000.L14400000. EU0000; N-96875;20X; MO 4500146121]

Notice of Realty Action: Non-Competitive Direct Sale of the Reversionary Interest in a Recreation and Public Purposes Act Patent (N-96875), Lander County, NV

AGENCY: Bureau of Land Management, Interior.

ACTION: Notice of realty action.

SUMMARY: The Bureau of Land Management (BLM) intends to dispose of the reversionary interest held by the United States in a non-competitive direct sale to Lander County, Nevada, of a 172.51-acre parcel of public land approximately 1 mile southwest of Battle Mountain in Lander County, Nevada.

DATES: Interested parties may submit written comments regarding the direct sale by June 13, 2022.

ADDRESSES: Send written comments to BLM Mount Lewis Field Manager, 50 Bastian Road, Battle Mountain, Nevada 89820.

FOR FURTHER INFORMATION CONTACT: Cassie Ault, Realty Specialist, at the address listed previously, by phone at (775) 635-4083, or by email at cmault@blm.gov. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: On January 9, 1991, the BLM patented the subject land to Lander County for a golf course and baseball diamond. The parcel to be offered consists of the reversionary interest and any remaining interests held by the United States, unless otherwise specified herein. The purpose of the non-competitive direct sale of the reversionary interest is to dispose of the reversionary interest in the patented lands that prevents Lander County from using the land for other purposes, such as a clubhouse that would complement the existing golf course and baseball diamond. The current footprint of the golf course includes a clubhouse with a restaurant, bar, and pro shop; the softball fields include a snack bar; and a United States Postal Service mail drop-off bin, all of which were not included in the plan of development, for which patent was issued in 1991.

This action is pursuant to Section 203 of the Federal Land Policy and Management Act of October 21, 1976, as amended (FLPMA). The BLM has found this parcel suitable for disposal under the authority of Sections 202 and 203 of FLPMA.

The parcel is located approximately 1 mile southwest of the town of Battle Mountain, Nevada, and is legally described as:

Mount Diablo Meridian, Nevada

T. 32 N., R. 44 E.,

Sec. 25, lots 1 and 2, and W½NE¼.

The area described contains 172.51 acres, according to the official plats of surveys of the said lands, on file with the BLM.

The BLM has identified the lands as suitable for disposal as set forth in 43 CFR 2710.0-3(a)(3). The 172.51-acre parcel of public land would be difficult and uneconomic for the BLM to manage if title reverted to the United States. The parcel is within the difficult-to-manage checkerboard land ownership pattern, is surrounded by private lands, and is not contiguous to any public land administered by the BLM. The absence of contiguous public land makes the parcel difficult for the BLM to administer. BLM has also determined that it is in the best interest of the public to dispose of the reversionary interest in this parcel of public land by direct sale to Lander County pursuant to 43 CFR 2711.3-3.

The sale is consistent with the Shoshone-Eureka Resource Management Plan and the Record of Decision approved on February 26, 1986. Section 203(a)(1) of the FLPMA authorizes the sale of tracts of public lands when the Secretary of the Interior, as a result of land use planning required under Section 202, determines that the tract is suitable for disposal because its location or other characteristics is difficult and uneconomic to manage as part of the public lands, and is not suitable for management by another Federal department or agency. Further, direct sale to Lander County is appropriate because, consistent with Section 203(a)(3) of the FLPMA, disposal of such tract will serve important public objectives, including but not limited to, expansion of communities and economic development. All remaining minerals for the subject land will be reserved to the United States pursuant to 43 CFR 2720.0-6.

Upon conveyance of the reversionary interest, all other terms and conditions of Patent No. 27-91-0013 will continue to apply.

The reversionary interest will not be sold until at least June 28, 2022 at the appraised fair market value of $431,000. The conveyance document will only transfer the reversionary interest retained by the United States in Patent 27-91-0013 and will contain the following terms, conditions, and reservations:

1. A right-of-way thereon for ditches or canals constructed by the authority of the United States, Act of August 30, 1890 (43 U.S.C. 945);

2. The terms and conditions of the United States Patent No. 27-91-0013, including but not limited to, the reservation of all mineral deposits in the land so patented, and the right to prospect for, mine, and remove such deposits from the same under applicable law and regulations to be established by the Secretary of the Interior, together with all necessary access and exit rights;

3. Valid existing rights; and

4. Additional terms and conditions that the authorized officer deems appropriate.

The purchaser, by accepting the release of the reversionary interest of the United States, agrees to indemnify, defend, and hold the United States, its officers, agents, or employees, harmless from any costs, damages, claims, causes of action, penalties, fines, liabilities, and judgements of any kind arising from the past, present, or future acts or omissions of the purchaser, its employees, agents, contractors, lessees, or any third party arising out of or in connection with the purchaser's acceptance of the aforementioned release or purchaser's use and/or occupancy of the land involved resulting in: (1) Violations of Federal, State, and local laws and regulations that are now, or in the future become, applicable to real property; (2) judgments, claims, or demands of any kind assessed against the United States; (3) cost, expenses, or damages of any kind incurred by the United States; (4) releases or threatened releases of solid or hazardous waste(s) and/or hazardous substances(s), as defined by Federal or State environmental laws, off, on, into, or under land, property, and other interests of the United States; (5) other activities by which solids or hazardous substances or wastes, as defined by Federal and State environmental laws are generated, released, stored, used, or otherwise disposed of on the land involved, and any cleanup, response, remedial action, or other actions related in any manner to said solid or hazardous substances or wastes; or (6) natural resource damages as defined by Federal and State law. Purchaser shall stipulate that it will be solely responsible for compliance with all applicable Federal, State, and local environmental and regulatory provisions throughout the life of the facility, including any closure and/or post closure requirements that may be imposed with respect to any physical plant and/or facility upon the land involved under any Federal, State, or local environmental laws or regulatory provisions. This covenant shall be construed as running with the land and may be enforced by the United States in a court of competent jurisdiction.

No warranty of any kind, express or implied, is given by the United States in connection with the sale or release of the reversionary interest. The documentation for land use conformance, National Environmental Policy Act procedures, a map, and the appraisal report, are available for review at the BLM Mount Lewis Field Office located at the address listed previously. The Mount Lewis Field Office completed its analysis of the Lander County Golf Course Reversionary Interest Direct Land Sale and provided the Environmental Assessment (DOI-BLM-NV-B010-2019-0033-EA) for a 30-day public comment period. No public comments were received.

Lander County will have until 4:30 p.m., Pacific Time, 20 days from the date of receiving the sale offer to accept the offer and submit a deposit of 20 percent of the purchase price. Lander County must remit the remainder of the purchase price to the Mount Lewis Field Office within 180 days from the date of receiving the sale offer. Payment must be received in the form of a certified check, postal money order, bank draft, or cashier's check payable to the U.S. Department of the Interior—BLM. Failure to meet conditions established for this sale will void the sale and any funds received will be forfeited. The BLM will not accept personal or company checks.

Failure to submit the full price prior to, but not including, the 180th day following the day of the sale shall result in cancellation of the sale of the specific parcel, and the deposit shall be forfeited and disposed of as other receipts of sale.

Arrangements for electronic fund transfer to the BLM for the payment of the balance due must be made a minimum of 2 weeks prior to the payment date.

In accordance with 43 CFR 2711.3-1(f), within 30 days the BLM may accept or reject any offer to purchase, or may withdraw any parcel of land or interest therein from sale, if the BLM authorized officer determines consummation of the sale would be inconsistent with any law, or for other reasons as may be provided by applicable law or regulations. No contractual or other rights against the United States may accrue until the BLM officially accepts the offer to purchase and the full price is paid.

Interested parties may submit written comments on the direct sale of the reversionary interest for the 172.51-acre sale parcel. Before including your address, phone number, email address, or other personally identifying information in your comment, you should be aware that your entire comment—including your personally identifying information—may be made publicly available at any time. While you can ask the BLM in your comment to withhold your personally identifying information from public review, we cannot guarantee that we will be able to do so. Any adverse comments will be reviewed by the BLM Nevada State Director who may sustain, vacate, or modify this realty action. In the absence of any adverse comments, the decision will become effective not less than 60 days after April 29, 2022.

(Authority: 43 CFR 2711.1-2)

Jon D. Sherve,
Field Manager, Mount Lewis Field Office.

[FR Doc. 2022-09163 Filed 4-28-22; 8:45 am]

BILLING CODE 4310-HC-P